DEPARTMENT OF AGRICULTURE

Forest Service

Newspaper Used for Publication of Legal Notices in the Southwestern Region, Gila National Forest, Black Range Ranger District, New Mexico

AGENCY: Forest Service, USDA.

ACTION: Notice.

SUMMARY: This notice updates the newspaper that will be used by the Black Range Ranger District, Gila National Forest, of the Southwestern Region to publish legal notices. The intended effect of this action is to inform interested members of the public the newspaper the Forest Service will use to publish notices of proposed actions, notices of decision, and notices of opportunity to file an objection or appeal. This will provide the public with constructive notice of Forest Service proposals and decisions, provide information on the procedures to comment, appeal, or object, and establish the date that the Forest Service will use to determine if comments, appeals, or objections were timely.

DATES: Publication of legal notices in the listed newspapers will begin on the date of this publication and continue until further notice.

ADDRESSES: Roxanne Turley, Regional Administrative Review Coordinator, Forest Service, Southwestern Region; 333 Broadway SE, Albuquerque, NM 87102-3498.

FOR FURTHER INFORMATION CONTACT: Roxanne Turley, Regional Administrative Review Coordinator; (505) 842-3178.

SUPPLEMENTARY INFORMATION: The administrative procedures at 36 CFR 218 and 219 require the Forest Service to publish notices in a newspaper of general circulation. The content of the notices is specified in 36 CFR 218 and 219. In general, the notices will identify: The decision or project, by title or subject matter; the name and title of the official making the decision; how to obtain additional information; and where and how to file comments, appeals, or objections. The date the notice is published will be used to establish the official date for the beginning of the comment, appeal, or objection period.

Gila National Forest

Notices of Availability for Comments, Decisions and Objections by District Ranger, Black Range Ranger District, are published in: —“Sierra County Sentinel”, Truth or Consequences, New Mexico.

Dated: March 4, 2019.
Allen Rowley,
Acting Associate Deputy Chief, National Forest System.

[FR Doc. 2019-05503 Filed 3-21-19; 8:45 am]

BILLING CODE 3411-15-P